DEPARTMENT OF VETERANS AFFAIRS

Advisory Committee on Minority Veterans, Notice of Meeting

The Department of Veterans Affairs (VA) gives notice under the Federal Advisory Committee Act, 5 U.S.C. App 2., that the Advisory Committee on Minority Veterans will virtually meet on December 7-9, 2021. The meeting sessions will begin and end as follows:

Dates | Times
December 7, 2021 | 11:00 a.m.-3:00 p.m.—Eastern Standard Time (EST).
December 8, 2021 | 11:00 a.m.-3:00 p.m. EST.
December 9, 2021 | 11:00 a.m.-3:00 p.m. EST.

This meeting is open to the public. To access the meeting, please click the link: Adobe Connect: http://va-eerc-ees.adobeconnect.com/cmv_admin/.

The purposes of the Committee are to: Advise the Secretary on the administration of VA benefits and services to minority Veterans; assess the needs of minority Veterans; and evaluate whether VA compensation, medical and rehabilitation services, outreach, and other programs are meeting those needs. The Committee makes recommendations to the Secretary regarding such activities.

On December 7, the Committee will receive briefings and updates from the Center for Minority Veterans, National Cemetery Administration, Veterans Experience Office, National Center for Veterans Analysis and Statistics, Office of Tribal Government Relations, and Veterans Benefits Administration. On December 8, the Committee will receive briefings and updates from the Board of Veterans Appeals, Veterans Health Administration, Center for Women Veterans, Mental Health, Inclusion, Diversity, Equity and Access (IDEA) Task Force, Office of Rural Health and Office of Health Equity. On December 9, the Committee will receive briefings and updates on Office of Diversity & Inclusion, Senior Advisor for Pacific Strategies and ex officio updates. The Committee will then hold a leadership exit briefing with Veterans Benefits Administration, Veterans Health Administration and National Cemetery Administration. The Committee will receive public comments from 1:00 p.m. to 1:15 p.m. The Committee will conduct an after-action review.

Individuals who wish to provide public comment are invited to submit a 1-2-page summary of their comments no later than November 29, 2021 for inclusion in the official meeting record. Members of the public may also submit written statements for the Committee's review to Ms. Juanita Mullen, at Juanita.Mullen@va.gov. Any member of the public seeking additional information should contact Ms. Juanita Mullen or Mr. Dwayne Campbell at (202) 461-6191.

Dated: November 9, 2021.
Jelessa M. Burney,
Federal Advisory Committee Management Officer.

[FR Doc. 2021-24909 Filed 11-15-21; 8:45 am]

BILLING CODE P